DEPARTMENT OF LABOR

Employment and Training Administration

[TA-W-36,592]

Guidant Intermedics, Cardiac Pacemakers, Inc. (CPI), Angleton, Texas; Amended Notice of Determinations Regarding Eligibility To Apply for Worker Adjustment Assistance

In accordance with Section 223 of the Trade Act of 1974 (19 U.S.C. 2273) the Department of Labor issued a Notice of Determinations Regarding Eligibility to Apply for Worker Adjustment Assistance on August 4, 1999, applicable to workers of Guidant Intermedics, Angeleton, Texas. The notice was published in the Federal Register on September 29, 1999 (64 FR 52540).

At the request of the State agency, the Department reviewed the certification for workers of the subject firm. The workers were engaged in the production of pacemakers and defibrillators, associated leads for the pacemakers and defibrillators and a personnel computer specifically designed for the programming of the pacemakers and defibrillators. Findings show that Cardiac Pacemakers, Inc. (CPI) is a wholly owned subsidiary of Guidant Intermedics. Findings also show that some workers separated from employment at the subject firm had their wages reported under a separate unemployment insurance (UI) tax account for Cardiac Pacemakers, Inc., Angleton, Texas.

The intent of the Department's certification is to include all workers of Guidant Intermedics who were adversely affected by increased imports. Accordingly, the Department is amending the Notice of Determinations to reflect this matter.

The amended notice applicable to TA-W-36,592 is hereby issued as follows:

“All workers of Guidant Intermedics, Cardiac Pacemakers, Inc., (CPI), Angleton, Texas engaged in employment related to the production of pacemakers and defibrillators who became totally or partially separated from employment on or after July 13, 1998 through August 4, 2001 are eligible to apply for adjustment assistance under Section 223 of the Trade Act of 1974.”

“I further determine that all workers at Guidant Intermedics, Cardiac Pacemakers, Inc., (CPI), Angleton, Texas engaged in activities related to the production of leads, hybrid circuits and PC's for the programming of pacemakers are denied eligibility to apply for adjustment assistance under Section 223 of the Trade Act of 1974.”

Signed at Washington, DC this 19th day of January, 2000.
Grant D. Beale,
Program Manager, Office of Trade Adjustment Assistance.

[FR Doc. 00-2503 Filed 2-3-00; 8:45 am]

BILLING CODE 4510-30-M